DEPARTMENT OF HEALTH AND HUMAN SERVICES

Health Care Financing Administration

Privacy Act of 1974; Report of Modified or Altered System

AGENCY: Department of Health and Human Services (HHS), Health Care Financing Administration (HCFA).

ACTION: Report of Altered Systems of Records.

SUMMARY: In accordance with the requirements of the Privacy Act of 1974, we are proposing to modify or alter designated HCFA systems of records specified in Appendix A. We are revising the language in global fraud and abuse routine uses number one and two to correspond with language used in other HCFA systems of records. We are also deleting global fraud and abuse routine use number three relating to “any entity that makes payments for or oversees the administration of health care services. * * *” Notice of these revised global routine uses was published in the Federal Register, Thursday, July 16, 1998 (63 FR 38414).

The primary purpose of revising the language in the two remaining global fraud and abuse routine uses is to shorten the language, make them easier to read, and provide clarity to HCFA intentions to disclose individual-specific information for the purposes of combating fraud and abuse to a HCFA contractor that assists in the administration of a HCFA-administered health benefits program, to a grantee of a HCFA-administered grant program, and to other federal agencies or to an instrumentality of any governmental jurisdiction, that administers, or that has the authority to investigate potential fraud or abuse in a health benefits program funded in whole or in part by federal funds.

The revised routine uses will be added to the systems listed in Appendix A at the earliest time that modification and republication of these systems can occur. The routine uses will be numbered in the next logical sequence for each system and will read as follows: (1) To a HCFA contractor (including, but not necessarily limited to fiscal intermediaries and carriers) that assists in the administration of a HCFA-administered health benefits program, or to a grantee of a HCFA-administered grant program, when disclosure is deemed reasonably necessary by HCFA to prevent, deter, discover, detect, investigate, examine, prosecute, sue with respect to, defend against, correct, remedy, or otherwise combat fraud or abuse in such program; and, (2) to another federal agency or to an instrumentality of any governmental jurisdiction within or under the control of the United States (including any state or local governmental agency), that administers, or that has the authority to investigate potential fraud or abuse in, a health benefits program funded in whole or in part by federal funds, when disclosure is deemed reasonably necessary by HCFA to prevent, deter, discover, detect, investigate, examine, prosecute, sue with respect to, defend against, correct, remedy, or otherwise combat fraud or abuse in such program, subjected to certain conditions. We have provided background information about the altered system in the SUPPLEMENTARY INFORMATION section below. Although the Privacy Act requires only that HCFA provide an opportunity for interested persons to comment on the proposed routine uses, HCFA invites comments on all portions of this notice. See Effective Dates section for comment period.

EFFECTIVE DATES: HCFA filed a modified or altered system report with the Chair of the House Committee on Government Reform and Oversight, the Chair of the Senate Committee on Governmental Affairs, and the Administrator, Office of Information and Regulatory Affairs, Office of Management and Budget (OMB) on August 14, 2000. To ensure that all parties have adequate time in which to comment, the modified or altered system of records, including routine uses, will become effective 40 days from the publication of the notice, or from the date it was submitted to OMB and the Congress, whichever is later, unless HCFA receives comments that require alterations to this notice.

ADDRESSES: The public should address comments to: Director, Division of Data Liaison and Distribution (DDLD), HCFA, Room N2-04-27, 7500 Security Boulevard, Baltimore, Maryland 21244-1850. Comments received will be available for review at this location, by appointment, during regular business hours, Monday through Friday from 9 am.-3 pm., eastern time zone.

FOR FURTHER INFORMATION CONTACT: Howard Cohen, Division of Methods and Strategies, Program Integrity Group, Office of Financial Management, HCFA, Mailstop C3-02-16, 7500 Security Boulevard, Baltimore, Maryland 21244-1850. The telephone number is 410-786-9537.

SUPPLEMENTARY INFORMATION: In 1998, HCFA informed the public of its intent to add three new routine uses to designated HCFA systems of records, under which HCFA may release information without the consent of the individual to whom such information pertains in order to prevent, deter, discover, detect, investigate, examine, prosecute, sue with respect to, defend against, correct, remedy, or otherwise combat fraud and abuse in programs HCFA administers.

Dated: August 10, 2000.
Nancy Ann Min DeParle,
Administrator, Health Care Financing Administration.

Appendix A

09-70-0005 “National Claims History (NCH),” HHS/HCFA/OIS;

09-70-0040 “Health Care Financing Administration Medicare Heart Transplant Data File,” HHS/HCFA/OIS;

09-70-0501 “Carrier Medicare Claims Records,” HHS/HCFA;

09-70-0503 “Intermediary Medicare Claims Records,” HHS/HCFA;

09-70-0505 “Supplemental Medical Insurance (SMI)Accounting Collection and Enrollment System (SPACE),” HHS/ HCFA;

09-70-0516 “Medicare Physician Supplier Master File (MPSM),” HHS/HCFA;

09-70-0518 “Medicare Clinic Physician Supplier Master File (MCPS),” HHS/HCFA;

09-70-0520 “End Stage Renal Disease (ESRD) Program Management and Medical Information System (PMMIS),” HHS/HCFA/OIS;

09-70-0524 “Intern and Resident Information System (IRIS),” HHS/HCFA/OFM;

09-70-0525 “Medicare Physician Identification and Eligibility System (MPIES),” HHS/HCFA/OFM;

09-70-0526 “Common Working File (CWF),” HHS/HCFA/OIS;

09-70-0527 “HCFA Utilization Review Investigatory Files (HURI),” HHS/HCFA;

09-70-0530 “Medicare Supplier Identification File (MSIF),” HHS/HCFA/OFM;

09-70-1511 “Physical Therapists In Independent Practice (Individuals) (PTIP),” HHS/HCFA/OCSQ;

09-70-2003 “Completion of State Medicaid Quality Control (MQC) Reviews,” HHS/HCFA/MB

09-70-2006 “Income and Eligibility Verification for Medicaid Eligibility Quality Control (MEQC) Reviews,” HHS/HCFA/MB

09-70-4001 “Group Health Plan (GHP) System,” HHS/HCFA;

09-70-4003 “Medicare HMO/CMP Beneficiary Reconsideration System (MBRS),” HHS/HCFA;

09-70-6001 “Medicaid Statistical Information System (MSIS),” HHS/HCFA/OIS.

[FR Doc. 00-21096 Filed 8-17-00; 8:45 am]

BILLING CODE 4120-03-U